POSTAL REGULATORY COMMISSION

[Docket Nos. RM2025-8 and K2025-1321; Order No. 8813]

Streamlined Negotiated Service Agreement Review and New Postal Product

AGENCY: Postal Regulatory Commission.

ACTION: Notice.

SUMMARY: The Commission is acknowledging a recent Postal Service filing requesting the Commission initiate a rulemaking to support the establishment of a new non-published rates product, Global Expedited Package Services—Non-Published Rates 17 to the Competitive product list. This document invites public comment on the advance review portion of the Postal Service's filing and takes other administrative steps.

DATES: Comments are due: April 30, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Postal Service Petition

III. Notice and Comment

IV. Ordering Paragraphs

I. Introduction

On April 18, 2025, the Postal Service filed a petition to initiate a proceeding for a streamlined option rulemaking to support the establishment of a new non-published rates (NPR) product, Global Expedited Package Services—Non-Published Rates 17 (GEPS—NPR 17), and its request to add GEPS—NPR 17 to the Competitive product list, pursuant to 39 U.S.C. 3633 and 3642, and 39 CFR 3035.105, 3041.205, and 3041.320.¹

¹ Petition of the United States Postal Service for the Initiation of a Streamlined-Option Rulemaking Concerning a Request to Add Global Expedited Package Services—Non-Published Rates 17 (GEPS—NPR 17) to the Competitive Products List, Including a Proposal for a GEPS—NPR 17 Model Contract Template and an Application for Non-Public Treatment of Materials Filed Under Seal, April 18, 2025 (Petition). The Postal Service also concurrently filed Library Reference USPS-RM2025-8-NP1. Notice of the United States Postal Service of Filing USPS-RM2025-8-NP1, April 18, 2025.

II. Postal Service Petition

Background. The Commission adopted rules for streamlined option rulemakings in Docket No. RM2023-5 to “address elements of 39 U.S.C. 3642 review and 39 U.S.C. 3633 pre-implementation review that are broadly applicable to qualifying [negotiated service agreements (NSAs)], and not particular to individual qualifying NSAs.” ² Specifically, such proceedings are used to establish eligibility criteria specifying the ways in which qualifying NSAs will be permitted to vary from existing offerings, to review a proposed financial model for qualifying NSAs that accounts for the financial impact of any such variations, and to establish minimum rates for qualifying NSAs. Order No. 7353 at 4.

² Docket No. RM2023-5, Final Order Amending Rules Regarding Competitive Negotiated Service Agreements, August 9, 2024, at 4 (Order No. 7353).

Streamlined option rulemaking. In accordance with 39 CFR 3041.205(c), the Postal Service submitted proposed Mail Classification Schedule (MCS) changes, a supporting financial model and the minimum rates for GEPS—NPR 17. Petition at 1, 3-5. The Postal Service states that GEPS—NPR 17 offers discounts for Priority Mail Express International (PMEI), Priority Mail International (PMI), and First-Class Package International Service (FCPIS). Id. at 3. The Postal Service asserts that the financial model for GEPS—NPR 17 includes minimum rates that demonstrate compliance with 39 U.S.C. 3633, 39 CFR 3035.105, 3041.205(c)(1), and 3041.205(d). Id.

NPR NSAs. Requests to add conforming NPR NSA products to the Competitive product list are reviewed in public proceedings. See Order No. 7353 at 5. If an NPR NSA product is approved, one or more included contracts using an approved contract template may be subsequently added to the product without requiring further approval from the Commission. See 39 CFR 3041.320(h).

The Postal Service states that the GEPS—NPR 17 contract template is “very similar” to the GEPS—NPR 16 contract template that the Commission reviewed in Order No. 7127.³ However, the Postal Service specifically identifies the following differences: (1) “a change in Article 2, which concerns payment method, to allow for the use of an Enterprise Payment Account. . .,” (2) “related changes in Articles 6, 7, and 10,” (3) “a minor change in Article 12,” and (4) “a revision to the discounts provided under the GEPS—NPR 17 product. . .” Petition at 6-7. The Postal Service also states that “[t]he major differences between GEPS—NPR 17 and GEPS—NPR 16 are in the Management Analysis, the financial model, and the rates.” Id. at 7.

³ Id. at 6 (citing Docket Nos. MC2024-231 and CP2024-237, Order Adding Global Expedited Package Services (GEPS)—Non-Published Rates 16 to the Competitive Product List, May 22, 2024 (Order No. 7127)).

Supporting materials. The Postal Service filed the following materials in support of its Petition: (1) a proposed financial model that includes minimum rates for GEPS—NPR 17; (2) Attachment 1, an application for non-public treatment of materials filed under seal; (3) Attachment 2A, Governors' Decision No. 19-1; (4) Attachment 2B, proposed revisions to MCS section 2510.8 Global Expedited Package Services (GEPS)—Non-Published Rates in legislative format; (5) Attachment 2C, the Management Analysis for GEPS—NPR 17, which provides a narrative explanation of how, in the Postal Service's view, the proposed financial model complies with statutory and regulatory requirements; (6) Attachment 2D, a sworn statement ; (7) Attachment 3, which explains why, in the Postal Service's view, the Petition is in accordance with 39 CFR 3041.205 and 3041.320; and (8) Attachment 4, the GEPS—NPR 17 contract template. Id. at 3-5; see id., Attachments 1-4.

III. Notice and Comment

The Commission establishes Docket Nos. RM2025-8 and K2025-1321 for consideration of matters raised by the Petition. Interested persons may submit comments. Comments are due no later than April 30, 2025. More information on the proceedings may be accessed via the Commission's website at https://www.prc.gov.

Pursuant to 39 U.S.C. 505, Katalin Clendenin is designated as an officer of the Commission (Public Representative) to represent the interests of the general public in these proceedings. The Public Representative does not represent any individual person, entity or particular point of view, and, when Commission attorneys are appointed, no attorney-client relationship is established.

IV. Ordering Paragraphs

It is ordered:

1. The Commission establishes Docket Nos. RM2025-8 and K2025-1321 for consideration of the matters raised by the Petition of the United States Postal Service for the Initiation of a Streamlined-Option Rulemaking Concerning a Request to Add Global Expedited Package Services—Non-Published Rates 17 (GEPS—NPR 17) to the Competitive Products List, Including a Proposal for a GEPS—NPR 17 Model Contract Template and an Application for Non-Public Treatment of Materials Filed Under Seal, filed April 18, 2025.

2. Comments by interested persons are due no later than April 30, 2025.

3. Pursuant to 39 U.S.C. 505, the Commission appoints Katalin Clendenin to serve as an officer of the Commission (Public Representative) to represent the interests of the general public in these dockets.

4. The Secretary shall arrange for the publication of this order in the Federal Register.

By the Commission.
Erica A. Barker,
Secretary.

[FR Doc. 2025-07298 Filed 4-25-25; 8:45 am]

BILLING CODE 7710-FW-P